DEPARTMENT OF COMMERCE

International Trade Administration

[A-583-833]

Certain Polyester Staple Fiber From Taiwan: Rescission of Antidumping Duty Administrative Review

AGENCY: Import Administration, International Trade Administration, Department of Commerce.

ACTION: Notice of rescission of the first antidumping duty administrative review.

SUMMARY: In response to a May 29, 2001 request made by Far Eastern Textile, Ltd., a producer/exporter of certain polyester staple fiber in Taiwan, and a May 30, 2001 request made by Arteva Specialities S.a.r.l. d/b/a/ KoSa and Wellman Inc., the petitioners, the Department of Commerce published the initiation of an administrative review of the antidumping duty order on certain polyester staple fiber from Taiwan for Far Eastern Textile, Ltd (covering the period March 30, 2000 to April 30, 2001) and Nan Ya Plastics Corporation, Ltd. (covering the period April 27, 2000 to April 30, 2001). Initiation of Antidumping and Countervailing Duty Administrative Reviews and Requests for Revocations in Part, 66 FR 32934 (June 19, 2001). This review has now been rescinded as a result of the withdrawal of the requests for review by Far Eastern Textile, Ltd. and Arteva Specialities S.a.r.l., d/b/a/ KoSa and Wellman Inc.

EFFECTIVE DATE: October 12, 2001.

FOR FURTHER INFORMATION CONTACT: Suresh Maniam, AD/CVD Enforcement, Group I, Office 1, Import Administration, U.S. Department of Commerce, 14th Street and Constitution Avenue, NW., Washington, DC 20230; telephone: (202) 482-0176.

SUPPLEMENTARY INFORMATION:

Applicable Statute

Unless otherwise indicated, all citations to the statute are references to the provisions effective January 1, 1995, the effective date of the amendments made to the Tariff Act of 1930 (the “Act”) by the Uruguay Round Agreements Act. In addition, unless otherwise indicated, all citations to the Department of Commerce's (“Department”) regulations refer to 19 CFR part 351 (2001).

Background

On May 25, 2000, the Department published an antidumping duty order on certain polyester staple fiber from Taiwan. Notice of Amended Final Determination of Sales at Less Than Fair Value: Certain Polyester Staple Fiber From the Republic of Korea and Antidumping Duty Orders: Certain Polyester Staple Fiber From the Republic of Korea and Taiwan, 65 FR 33807. On May 29, 2001, Far Eastern Textile, Ltd. (“FETL”), a producer/exporter of certain polyester staple fiber in Taiwan, requested an administrative review of the antidumping duty order on certain polyester staple fiber from Taiwan covering the period March 30, 2000 to April 30, 2001. On May 30, 2001, Arteva Specialities S.a.r.l. d/b/a/ KoSa and Wellman Inc. (“the petitioners”), requested an administrative review of the antidumping duty order on certain polyester staple fiber from Taiwan for Nan Ya Plastics Corporation, Ltd. (“Nan Ya”), a producer/exporter of certain polyester staple fiber in Taiwan, covering the period April 27, 2000 to April 30, 2001. In accordance with 19 CFR 351.221(c)(1)(i), we published the initiation of the review on June 19, 2001. Initiation of Antidumping and Countervailing Duty Administrative Reviews and Requests for Revocations in Part, 66 FR 32934. On September 4, 2001, FETL withdrew its request for review. On September 20, 2001, the petitioners withdrew their request for review for Nan Ya.

Rescission of Review

The Department's regulations provide that the Department will rescind an administrative review if a party that requested a review withdraws the request within ninety days of the date of publication of the notice of initiation of the requested review. 19 CFR 351.213(d)(1). The Department's regulations also allow the Secretary to extend this time limit if it is reasonable to do so. Id. FETL's request for review was withdrawn within the ninety-day deadline. The petitioners' request for review for Nan Ya was withdrawn ninety-three days after the initiation was published. However, because Nan Ya received an extension to file its response to section A of the Department's questionnaire in this administrative review until three days before the ninety-day deadline, we find it reasonable that the petitioners would need some time to examine at least the information in that response before making a determination to withdraw their request for review. Therefore, we have accepted the petitioners' withdrawal of their request for review despite it being filed after the ninety-day deadline.

As a result of the withdrawals of the requests for review and because the Department received no other request for review, the Department is rescinding this administrative review.

This notice also serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and the terms of an APO is a sanctionable violation.

This determination is issued and published in accordance with sections 751(a)(1) and 777(i)(1) of the Tariff Act of 1930, as amended.

Dated: October 4, 2001.
Richard W. Moreland,
Deputy Assistant Secretary for Import Administration.

[FR Doc. 01-25708 Filed 10-11-01; 8:45 am]

BILLING CODE 3510-DS-P